DEPARTMENT OF ENERGY

Federal Energy Regulatory Commission

Combined Notice of Filings #2

Take notice that the Commission received the following electric rate filings:

Docket Numbers: ER13-2462-000.

Applicants: Pheasant Run Wind II, LLC.

Description: Request for Authorization of an Earlier Effective Date of January 23, 2013 for Market-Based Rate Tariff of Pheasant Run Wind II, LLC.

Filed Date: 1/14/14.

Accession Number: 20140114-5090.

Comments Due: 5 p.m. ET 1/24/14.

Docket Numbers: ER14-41-001; ER14-42-001; ER12-1911-002; ER12-1912-002; ER12-1913-002; ER12-1915-002; ER12-1916-002; ER12-1917-002.

Applicants: RE Rosamond One LLC, RE Rosamond Two LLC, RE McKenzie 1 LLC, RE McKenzie 2 LLC, RE McKenzie 3 LLC, RE McKenzie 4 LLC, RE McKenzie 5 LLC, RE McKenzie 6 LLC.

Description: Notice of Non-Material Change in Status of KKR MBR Sellers.

Filed Date: 1/13/14.

Accession Number: 20140113-5174.

Comments Due: 5 p.m. ET 2/3/14.

Docket Numbers: ER14-987-000.

Applicants: Southern California Edison Company.

Description: Southern California Edison Company submits Amendments Distribution Service Agreements with Coram CELLC and SEPV1 to be effective 12/15/2013.

Filed Date: 1/14/14.

Accession Number: 20140114-5073.

Comments Due: 5 p.m. ET 2/4/14.

Docket Numbers: ER14-989-000.

Applicants: Southern California Edison Company.

Description: Southern California Edison Company submits Amendments to Distribution Service Agmts with Several Interconnection Customers to be effective 12/15/2013.

Filed Date: 1/14/14.

Accession Number: 20140114-5077.

Comments Due: 5 p.m. ET 2/4/14.

Docket Numbers: ER14-990-000.

Applicants: Midcontinent Independent System Operator, Inc.

Description: Midcontinent Independent System Operator, Inc. submits 2014-01-14_ER14-___-000_LMR Netting Filing to be effective 3/15/2014.

Filed Date: 1/14/14.

Accession Number: 20140114-5086.

Comments Due: 5 p.m. ET 2/4/14.

Docket Numbers: ER14-991-000.

Applicants: Northern Indiana Public Service Company.

Description: Northern Indiana Public Service Company submits Filing of Supplement to FERC Elec Rate Sch No. 14 to be effective 1/15/2014.

Filed Date: 1/14/14.

Accession Number: 20140114-5089.

Comments Due: 5 p.m. ET 2/4/14.

Docket Numbers: ER14-992-000.

Applicants: PJM Interconnection, L.L.C.

Description: PJM Interconnection, L.L.C. submits Queue Position Y3-046 & Y3-051; Original Service Agreement No. 3685 to be effective 12/12/2013.

Filed Date: 1/14/14.

Accession Number: 20140114-5114.

Comments Due: 5 p.m. ET 2/4/14.

Docket Numbers: ER14-993-000.

Applicants: Midcontinent Independent System Operator, Inc.

Description: Midcontinent Independent System Operator, Inc. submits 2014-01-14_SA 2418_Wolverine-Tower Kleber Amd IA to be effective 3/15/2014.

Filed Date: 1/14/14.

Accession Number: 20140114-5115.

Comments Due: 5 p.m. ET 2/4/14.

Docket Numbers: ER14-994-000.

Applicants: Midcontinent Independent System Operator, Inc.

Description: Midcontinent Independent System Operator, Inc. submits 2014-01-14_SA 1872_Wolverine-Tower Kleber WDS Agr to be effective 3/15/2014.

Filed Date: 1/14/14.

Accession Number: 20140114-5116.

Comments Due: 5 p.m. ET 2/4/14.

Docket Numbers: ER14-995-000.

Applicants: PJM Interconnection, L.L.C.

Description: PJM Interconnection, L.L.C. submits Original Service Agreement No. 3736; Queue No. Y3-026 to be effective 12/12/2013.

Filed Date: 1/14/14.

Accession Number: 20140114-5127.

Comments Due: 5 p.m. ET 2/4/14.

Docket Numbers: ER14-997-000.

Applicants: Southern California Edison Company.

Description: Southern California Edison Company submits SGIA and Distribution Service Agmt with TA-High Desert LLC to be effective 12/15/2013.

Filed Date: 1/14/14.

Accession Number: 20140114-5130.

Comments Due: 5 p.m. ET 2/4/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 14, 2014.
Nathaniel J. Davis, Sr.,
Deputy Secretary.

[FR Doc. 2014-01142 Filed 1-22-14; 8:45 am]

BILLING CODE 6717-01-P